DEPARTMENT OF TRANSPORTATION

Federal Aviation Administration

14 CFR Part 39

[Docket No. 2001-NM-383-AD; Amendment 39-12577; AD 2001-26-51]

RIN 2120-AA64

Airworthiness Directives; Bombardier Model CL-600-2B19 Series Airplanes

AGENCY: Federal Aviation Administration, DOT.

ACTION: Final rule; request for comments.

SUMMARY: This document publishes in the Federal Register an amendment adopting airworthiness directive (AD) 2001-26-51 that was sent previously to all known U.S. owners and operators of certain Bombardier Model CL-600-2B19 series airplanes by individual notices. This AD requires deactivation of the center tank fuel transfer shutoff valves by opening circuit breakers and installing a circuit breaker lock ring and disconnecting and stowing the electrical wiring, replacing certain valves with valves having a different part number, reconnecting certain circuit breaker wires, removing lock rings, and resetting the associated circuit breakers. For certain airplanes, this AD requires an AFM revision to prohibit operation with more than 200 pounds of fuel in the center fuel tank. This AD also has a provision for operating other airplanes with the center fuel tank full and with both fuel transfer shutoff valves inoperative. This action is prompted by issuance of mandatory continuing airworthiness information by a foreign civil airworthiness authority. The actions specified by this AD are intended to prevent ignition of fuel vapor in the center wing tank and consequent fire and explosion.

DATES: Effective January 14, 2002, to all persons except those persons to whom it was made immediately effective by emergency AD 2001-26-51, issued December 14, 2001, which contained the requirements of this amendment.

The incorporation by reference of certain publications listed in the regulations is approved by the Director of the Federal Register as of January 14, 2002.

Comments for inclusion in the Rules Docket must be received on or before February 7, 2002.

ADDRESSES: Submit comments in triplicate to the Federal Aviation Administration (FAA), Transport Airplane Directorate, ANM-114, Attention: Rules Docket No. 2001-NM-383-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-383-AD” in the subject line and need not be submitted in triplicate. Comments sent via the Internet as attached electronic files must be formatted in Microsoft Word 97 for Windows or ASCII text.

The applicable service information may be obtained from Bombardier, Inc., Canadair, Aerospace Group, PO Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Luciano L. Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION: On December 14, 2001, the FAA issued emergency AD 2001-26-51, which is applicable to certain Bombardier Model CL-600-2B19 series airplanes. That action was prompted by the manufacturer's discovery of an unsafe condition while conducting the safety review of the fuel tank system required by Special Federal Aviation Regulation Number 88 (SFAR 88), Fuel Tank System Fault Tolerance Requirements. In addition to other requirements, SFAR 88 requires that certain type certificate and supplemental type certificate holders conduct a safety review of the airplane fuel tank system to determine that the design meets the latest fuel tank ignition prevention requirements.

The center tank fuel transfer shutoff valve is operated by a solenoid. The solenoid closes the valve and maintains it in the closed position when electrical power is applied to the solenoid. Certain valves have two solenoids. As a result of the safety review, the valve was tested with one solenoid failed. During this bench testing, the manufacturer found that a failed valve could overheat to a temperature that exceeds the fuel hot surface ignition point. This condition, if not corrected, could result in ignition of fuel vapor in the center wing tank and consequent fire and explosion.

Explanation of Relevant Service Information

Bombardier has issued Alert Service Bulletin A601R-28-045, Revision “A,” dated December 7, 2001, which describes procedures for deactivation of the center tank fuel transfer shutoff valves by opening circuit breakers and installing a circuit breaker lock ring, and disconnecting and stowing the circuit breaker electrical wire. Transport Canada Civil Aviation (TCCA) classified this alert service bulletin as mandatory and issued Canadian airworthiness directive CF-2001-47, dated December 11, 2001, in order to ensure the continued airworthiness of these airplanes in Canada.

In addition to the actions specified in the alert service bulletin, the Canadian airworthiness directive also requires replacing certain valves with valves having a different part number, reconnecting certain circuit breaker wires, removing lock rings, and resetting the associated circuit breakers. For airplanes on which a certain fuel tank vent modification has not been accomplished, the Canadian airworthiness directive also requires an airplane flight manual (AFM) revision to prohibit operation with more than 200 pounds of fuel in the center fuel tank. The Canadian airworthiness directive also has a provision for operating airplanes on which that modification has been accomplished with the center fuel tank full and with both fuel transfer shutoff valves inoperative.

FAA's Conclusions

This airplane model is manufactured in Canada and is type certificated for operation in the United States under the provisions of § 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of the Requirements of the Rule

Since an unsafe condition has been identified that is likely to exist or develop on other airplanes of this same type design registered in the United States, this airworthiness directive is issued to prevent ignition of fuel vapor in the center wing tank and consequent fire and explosion. The AD requires deactivation of the center tank fuel transfer shutoff valves by opening circuit breakers and installing a circuit breaker lock ring and disconnecting and stowing the electrical wiring. Those actions are required to be accomplished in accordance with the alert service bulletin described previously.

This AD also requires replacing certain valves with valves having a different part number, reconnecting certain circuit breaker wires, removing lock rings, and resetting the associated circuit breakers. For certain airplanes, this AD requires an AFM revision to prohibit operation with more than 200 pounds of fuel in the center fuel tank. This AD also has a provision for operating other airplanes with the center fuel tank full and with both fuel transfer shutoff valves inoperative.

Since it was found that immediate corrective action was required, notice and opportunity for prior public comment thereon were impracticable and contrary to the public interest, and good cause existed to make the AD effective immediately by individual notices issued on December 14, 2001, to all known U.S. owners and operators of certain Bombardier Model CL-600-2B19 series airplanes. These conditions still exist, and the AD is hereby published in the Federal Register as an amendment to § 39.13 of the Federal Aviation Regulations (14 CFR 39.13) to make it effective as to all persons.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-383-AD.” The postcard will be date-stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-26-51 Bombardier, Inc. (Formerly Canadair): Amendment 39-12577. Docket 2001-NM-383-AD.

Applicability: Model CL-600-2B19 series airplanes, serial numbers 7003 and subsequent, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance: Required as indicated, unless accomplished previously.

To prevent ignition of fuel vapor in the center wing tank and consequent fire and explosion, accomplish the following:

Lock Ring Installation

(a) For all airplanes: Within 24 hours after the effective date of this AD, open circuit breakers identified in paragraph 2.B. of the Accomplishment Instructions of Bombardier Alert Service Bulletin A601R-28-045, Revision “A,” dated December 7, 2001, and install a lock ring on the circuit breakers, in accordance with PART A of the Accomplishment Instructions of the alert service bulletin.

Note 2: Accomplishment of the requirements of paragraphs (a) and (c) in accordance with Bombardier Alert Service Bulletin A601R-28-045, dated December 6, 2001, prior to the effective date of this AD is acceptable for compliance with the requirements of those paragraphs.

AFM Revision for Certain Airplanes

(b) For airplanes having serial numbers 7003 through 7109 inclusive: Concurrently with the accomplishment of the requirements of paragraph (a) of this AD, determine whether the fuel vent system has been modified in accordance with Bombardier Service Bulletin 601R-28-024, Revision “A,” dated November 11, 1998.

(1) For airplanes on which the fuel vent system HAS been modified in accordance with the service bulletin: No further action is required by paragraph (b) of this AD.

(2) For airplanes on which the fuel vent system HAS NOT been modified in accordance with the service bulletin: Prior to further flight, revise the Limitations section of the Airplane Flight Manual (AFM) to include the following (this may be accomplished by inserting a copy of this AD into the AFM):

“THE AIRPLANE MUST NOT BE OPERATED WITH MORE THAN 200 POUNDS OF FUEL IN THE CENTER FUEL TANK.”

Following accomplishment of the requirements of paragraph (d), the AFM revision shall be removed from the AFM. Where the provisions of this AD and the Master Minimum Equipment List (MMEL) differ, this AD prevails.

Disconnection and Stowage of Electrical Wiring

(c) For all airplanes: Within 4 days after the effective date of this AD, disconnect and stow the electrical wires from the circuit breakers opened as required by paragraph (a) of this AD, in accordance with Accomplishment Instructions of Bombardier Alert Service Bulletin A601R-28-045, Revision “A,” dated December 7, 2001.

Identification of Valve Part Number

(d) For all airplanes: Within 45 days after the effective date of this AD, determine the part number (P/N) of the fuel transfer shutoff valves installed in the center fuel tank, and accomplish the following, as applicable.

(1) If any valve has P/N 601R62256-5, remove the valve in accordance with Maintenance Manual task number 28-13-43-000-801, and replace it with a valve having P/N 601R62256-3 in accordance with Maintenance Manual task number 28-13-43-400-801; and reactivate the fuel transfer shutoff valve by accomplishing the requirements of paragraph (d)(1)(i) or (d)(1)(ii) of this AD, as applicable.

(i) For airplanes that have NOT been modified in accordance with Bombardier Service Bulletin 601R-28-022: Open the CBP-1; remove protective tubing, if applicable; release “Unstow” the wire and reconnect it to its respective breaker CB1-N9, in accordance with Wiring Manual 28-20-50; close the CBP-1; remove the “INOP” label and the lock ring from breaker CB1-N9; carry out AMM Task 28-13-43-710-801, “Operational Test of Fuel Transfer SOV”; and remove the AFM limitation required by paragraphs (b)(2) and (f) of this AD.

(ii) For airplanes that HAVE been modified in accordance with Bombardier Service Bulletin 601R-28-022: Open the CBP-1 and CBP-2; remove protective tubing, if applicable; release “Unstow” the wires and reconnect them to their respective breaker CB1-N9 or CB2-P9, in accordance with Wiring Manual 28-20-50; close the CBP-1 and CBP-2; remove the “INOP” labels and lock rings from breakers CB1-N9 and CB2-P9; carry out AMM Task 28-13-43-710-801, “Operational Test of Fuel Transfer SOV”; and remove the AFM limitation required by paragraph (f) of this AD.

(2) If all valves have P/N 601R62256-3, reactivate the fuel transfer shutoff valve by accomplishing the requirements of paragraph (d)(2)(i) or (d)(2)(ii) of this AD, as applicable.

(i) For airplanes that have NOT been modified in accordance with Bombardier Service Bulletin 601R-28-022: Open the CBP-1; remove protective tubing, if applicable; release “Unstow” the wire and reconnect it to its respective breaker CB1-N9, in accordance with Wiring Manual 28-20-50; close the CBP-1; remove the “INOP” label and the lock ring from breaker CB1-N9; carry out AMM Task 28-13-43-710-801, “Operational Test of Fuel Transfer SOV”; and remove the AFM limitation required by paragraphs (b)(2) and (f) of this AD.

(ii) For airplanes that HAVE been modified in accordance with Bombardier Service Bulletin 601R-28-022: Open the CBP-1 and CBP-2; remove protective tubing, if applicable; release “Unstow” the wires and reconnect them to their respective breaker CB1-N9 or CB2-P9, in accordance with Wiring Manual 28-20-50; close the CBP-1 and CBP-2; remove the “INOP” labels and lock rings from breakers CB1-N9 and CB2-P9; carry out AMM Task 28-13-43-710-801, “Operational Test of Fuel Transfer SOV”; and remove the AFM limitation required by paragraph (f) of this AD.

Dispatch of Airplane With Inoperative Valves

(e) Except as required by paragraph (b) of this AD: The airplane may be operated with the center fuel tank full and with both fuel transfer shutoff valves inoperative (applicable circuit breakers opened as specified by paragraph (a) of this AD), until accomplishment of paragraph (d) of this AD. Where the provisions of this AD and the MMEL differ, this AD prevails.

AFM Revision

(f) Concurrently with accomplishing the actions required by paragraph (a) of this AD, revise the Limitations section of the AFM to include the following (this may be accomplished by inserting a copy of this AD into the AFM):

“Note: When the applicable circuit breakers are opened, power is removed from the fuel transfer shutoff valves (SOVs). The fuel transfer SOVs remain open and will continuously allow the transfer of the fuel from the center tank to the wings. The fuel in the center tank is usable. The wing tanks will indicate FULL until the center tank is empty, and an EICAS LR X-FER SOV message will either indicate ON GROUND, or the message may disappear during climb but will remain on during the remainder of the flight.”

Following accomplishment of the requirements of paragraph (d), the AFM revision shall be removed from the AFM. Where the provisions of this AD and the MMEL differ, this AD prevails.

Spares

(g) As of the effective date of this AD, no person may install a fuel transfer shutoff valve having P/N 601R62256-5 on any airplane.

Alternative Methods of Compliance

(h) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(i) Special flight permits may be issued in accordance with §§ 21.197 and 21.199 of the Federal Aviation Regulations (14 CFR 21.197 and 21.199) to operate the airplane to a location where the requirements of this AD can be accomplished.

Incorporation by Reference

(j) The actions required by paragraphs (a) and (c) of this AD shall be done in accordance with Bombardier Alert Service Bulletin A601R-28-045, Revision “A,” dated December 7, 2001. This incorporation by reference was approved by the Director of the Federal Register in accordance with 5 U.S.C. 552(a) and 1 CFR part 51. Copies may be obtained from Bombardier, Inc., Canadair, Aerospace Group, PO Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 4: The subject of this AD is addressed in Canadian airworthiness directive CF-2001-47, dated December 11, 2001.

Effective Date

(k) This amendment becomes effective on January 14, 2002, to all persons except those persons to whom it was made immediately effective by emergency AD 2001-26-51, issued December 14, 2001, which contained the requirements of this amendment.

Issued in Renton, Washington, on December 20, 2001.
Ali Bahrami,
Acting Manager, Transport Airplane Directorate, Aircraft Certification Service.

[FR Doc. 02-88 Filed 1-7-02; 8:45 am]

BILLING CODE 4910-13-U